DEPARTMENT OF JUSTICE

Antitrust Division

Notice Pursuant To The National Cooperative Research and Production Act of 1993—Portland Cement Association

Notice is hereby given that, on January 19, 2006, pursuant to Section 6(a) of the National Cooperative Research and Production act of 1993, 15 U.S.C. 4301 et seq. (“the Act”), Portland Cement Association (“PCA”) has filed written notifications simultaneously with the Attorney General and the Federal Trade Commission disclosing changes in its membership. The notifications were filed for the purpose of extending the Act's provisions limiting the recovery of antitrust plaintiffs to actual damages under specified circumstances. Specifically, Harbison-Walker Refractories Company, Moon Township, PA; and Gebr. Pfeiffer USA, Inc., Norcross, GA have become Associate Members. Also, RMC-CEMEX, Houston, TX has withdrawn as a party to this venture.

No other changes have been made in either the membership or planned activity of the group research project. Membership in this group research project remains open, and PCA intends to file additional written notification disclosing all changes in membership.

On January 7, 1985, PCA filed its original notification pursuant to Section 6(a) of the Act. The Department of Justice published a notice in the Federal Register pursuant to Section 6(b) of the act on February 5, 1985 (50 FR 5015).

The last notification was filed with the Department on September 7, 2005. A notice was published in the Federal Register pursuant to Section 6(b) of the Act on September 28, 2005 (70 FR 56736).

Dorothy B. Fountain,
Deputy Director of Operations, Antitrust Division.

[FR Doc. 06-1938 Filed 3-1-06; 8:45 am]

BILLING CODE 4410-11-M